DEPARTMENT OF HEALTH AND HUMAN SERVICES

National Institutes of Health

National Institute of Mental Health Notice of Meeting

Pursuant to section 10(a) of the Federal Advisory Committee Act, as amended (5 U.S.C. App.), notice is hereby given of a conference call of the Interagency Autism Coordinating Committee (IACC).

The IACC Full Committee will be having a conference call on Wednesday, September 7, 2011. The committee plans to discuss a draft letter to the Secretary of Health and Human Services on issues related to seclusion and restraint. This conference call will be accessible to the public through a call-in number and access code.

Name of Committee: Interagency Autism Coordinating Committee (IACC).

Type of meeting: Conference Call.

Date: September 7, 2011.

Time: 3 to 5 p.m. *Eastern Time*—Approximate end time.

Agenda: The committee will discuss a draft letter to the Secretary of Health and Human Services on issues related to seclusion and restraint.

Place: No in-person meeting; conference call only.

Conference Call: Dial: 800-369-1673, Access code: 2298100.

Cost: The conference call is free and open to the public.

Contact Person: Ms. Lina Perez, Office of Autism Research Coordination, National Institute of Mental Health, NIH, 6001 Executive Boulevard, NSC, Room 8185a, Rockville, MD 20852, Phone: (301) 443-6040, E-mail: IACCPublicInquiries@mail.nih.gov.

Please Note:

The conference call will be accessible to the public through a call-in number and access code. Members of the public who participate using the conference call phone number will be able to listen to the meeting but will not be heard. If you experience any technical problems with the conference call, please e-mail IACCTechSupport@acclaroresearch.com or call the IACC Technical Support Help Line at 443-680-0098.

Individuals who participate by using this electronic service and who need special assistance, such as captioning of the conference call or other reasonable accommodations, should submit a request to the Contact Person listed on this notice at least 7 days prior to the meeting.

Schedule subject to change.

Information about the IACC and a registration link for this meeting are available on the Web site: http://www.iacc.hhs.gov.

Dated: August 11, 2011.
Anna P. Snouffer,
Deputy Director, Office of Federal Advisory Committee Policy.

[FR Doc. 2011-21133 Filed 8-17-11; 8:45 am]

BILLING CODE 4140-01-P